DEPARTMENT OF COMMERCE

National Oceanic and Atmospheric Administration

RIN: 0648-XB99

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Snapper Grouper Advisory Panel; Advisory Panel Selection Committee (Closed Session); Standard Operations, Policy, and Procedures (SOPPs) Committee; Finance Committee; Scientific and Statistical Selection Committee (Closed Session); Information and Education Committee; Snapper Grouper Committee; Shrimp Committee; Mackerel Committee; Limited Access Privilege (LAP) Program Committee; Ecosystem-based Management Committee; Southeast Data, Assessment, and Review (SEDAR) Committee; and a meeting of the full Council. The Council will also hold a meeting of the LAP Program Exploratory Workgroup and a public scoping meeting regarding Amendment 16 to the Snapper Grouper Fishery Management Plan to address overfishing for gag grouper and vermilion snapper. The scoping meeting is included in an earlier Federal Register Notice.

DATES: The meetings will be held September 17, 2007 through September 21, 2007. See SUPPLEMENTARY INFORMATION for specific dates and times.

ADDRESSES: The meeting will be held at the Avista Resort, 300 North Ocean Boulevard, N. Myrtle Beach, SC 29582; telephone: (1-800) 968-8986 or (843) 249-2521. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Snapper Grouper Advisory Panel Meeting: September 17, 2007, 1 p.m. until 6 p.m.; September 18, 2007 from 8 a.m. until 12 noon (Concurrent Sessions)

The Snapper Grouper Advisory Panel will deal with issues surrounding Amendment 16 (Gag & Vermilion Snapper management) and Amendment 15. They will develop recommendations for Snapper Grouper Committee and Council consideration.

2. Advisory Panel Selection Committee Meeting: September 17, 2007, 1 p.m. until 3 p.m. (Closed Session)

The Advisory Panel Selection Committee will review applications and develop recommendations for advisory panel appointments for Council consideration.

3. SOPPs Committee Meeting: September 17, 2007, 3 p.m. until 4:30 p.m.

The SOPPs Committee will receive an update on the status of Secretarial review of Council SOPPs, develop changes to SOPPs as necessary, and consider recommended changes to the Administrative Handbook.

4. Finance Committee Meeting: September 17, 2007, 4:30 p.m. until 5:30 p.m.

The Finance Committee will receive an update on the Activities Schedule and the status of the Calendar Year 2007 budget.

Note: A public scoping meeting for Amendment 16 to the Snapper Grouper Fishery Management Plan to address overfishing for gag grouper and vermilion snapper will take place at 6 p.m. on September 17, 2007. (This meeting was included in an earlier FRN).

5. LAP Program Exploratory Workgroup Meeting: September 18, 2007, 1 p.m. until 6 p.m. and September 19, 2007, 8 a.m. until 3 p.m. (Concurrent Sessions)

The LAP Program Exploratory Workgroup will meet to discuss the Draft Working document, bulleted items under “Prerequisites for an Industry Supported LAP Program”, and enforcement issues. Also being discussed, Outreach Sub-Committee update, data updates, data collection presentations, and collection options.

6. Scientific and Statistical Selection Committee Meeting: September 18, 2007, 8 a.m. until 9 a.m. (Closed Session)

The SSC Selection Committee will meet to review applications and develop recommendations for SSC appointments. The Committee will also discuss guidelines for SSCs being developed by NOAA Fisheries.

7. Information and Education Committee Meeting: September 18, 2007, 9 a.m. until 11 a.m.

The Information and Education Committee will receive an update on outreach efforts for the Oculina Bank Habitat Area of Particular Concern (HAPC) and Experimental Closed Area, review advisory panel comments and develop recommendations for outreach regarding marine protected areas, Limited Access Privilege Programs, the Council's Fishery Ecosystem Plan, and Amendment 16 to the Snapper Grouper Fishery Management Plan. The Committee will also receive a presentation on NOAA Fisheries Services' FishWatch Consumer Seafood Web site.

8. SEDAR Committee Meeting: September 18, 2007, 11 a.m. until 12 noon

The SEDAR Committee will provide guidance to the Council representatives for the October SEDAR Steering Committee meeting.

9. Snapper Grouper Committee Meeting: September 18, 2007, 1:30 p.m. until 6 p.m. and September 19, 2007, 8 a.m. until 12 noon

The Snapper Grouper Committee will review the results of black sea bass pot research and develop direction to staff for Snapper Grouper Amendment 16 addressing overfishing for gag grouper and vermilion snapper. The Committee will also develop recommendations for completing the public hearing draft of Snapper Grouper Amendment 15 and approve the amendment for public hearing.

10. Mackerel Committee Meeting: September 19, 2007, 1:30 p.m. until 4 p.m.

The Mackerel Committee will review the framework document for changing the Atlantic Spanish Mackerel trip limit and approve the document for submission to the Secretary of Commerce for formal review. The Committee will also discuss geographical allocation of the commercial king mackerel quota.

11. Shrimp Committee Meeting: September 19, 2007, 4 p.m. until 6 p.m.

The Shrimp Committee will review the analysis of options to be considered in Shrimp Amendment 7 (addressing rock shrimp permit issues) and provide guidance to staff.

12. Ecosystem-based Management Committee Meeting: September 20, 2007, 8 a.m. until 12 noon

The Ecosystem-based Management Committee will receive a update on the status of the Fishery Ecosystem Plan, presentations on Coral HAPCs and deepwater corals, and recommend management options to include in the Ecosystem Comprehensive Amendment. The Committee will also receive reports on Ocean Observing Systems and a recent alternative energy workshop.

13. Limited Access Privilege (LAP) Program Committee Meeting: September 20, 2007, 1:30 p.m. until 3:30 p.m.

The LAP Program Committee will receive a presentation on the Gulf Red Snapper Individual Fishing Quota (IFQ) Program and updates concerning the LAP Program Workgroup.

14. Council Session: September 20, 2007, 3:30 p.m. until 6 p.m. and September 21, 2007, 8 a.m. until 12 noon

Council Session: September 20, 2007, 3:30 p.m. until 6 p.m.

From 3:30 p.m. - 4 p.m., the Council will call the meeting to order, adopt the agenda, approve the June 2007 meeting minutes, elect a Chair and Vice-Chair, and make presentations.

From 4 p.m. - 4:15 p.m., the Council will review Experimental Fishing Permit applications.

From 4:15 p.m. - 4:45 p.m., the Council will receive a presentation on Amendment 2 to the Consolidated Highly Migratory Species (HMS) Fishery Management Plan.

From 4:45 p.m. - 5:15 p.m., the Council will receive a report on Working Waterfronts.

From 5:15 p.m. - 6 p.m., the Council will receive a report from the Mackerel Committee and take action as appropriate.

5:15 p.m. - Public Comment Session: Public comment regarding the Mackerel Framework Document addressing the Atlantic Spanish mackerel fishing trip limit.

Council Session: September 21, 2007, 8 a.m. - 12 noon.

From 8 a.m. - 8:15 a.m., the Council will receive a NOAA General Counsel briefing on litigation issues (CLOSED SESSION).

From 8:15 a.m. - 8:30 a.m., the Council will receive a report from the Snapper Grouper Committee and approve Amendment 15 for public hearing, approve alternatives for Amendment 16, and consider other Committee recommendations and take action as appropriate.

From 8:30 a.m. - 8:45 a.m., the Council will receive a report from the Shrimp Committee and take action as appropriate.

From 8:45 a.m. - 9 a.m., the Council will receive a report from the LAP Program Committee and take action as appropriate.

From 9 a.m. - 9:15 a.m., the Council will receive a report from the Ecosystem-based Management Committee and take action as appropriate.

From 9:15 a.m. - 9:30 a.m., the Council will receive a report from the SEDAR Committee and take action as appropriate.

From 9:30 a.m. - 9:45 a.m., the Council will receive a report from the Finance Committee and take action as appropriate.

From 9:45 a.m. - 10 a.m., the Council will receive a report from the Advisory Panel Selection Committee and take action as appropriate.

From 10 a.m. - 10:15 a.m., the Council will hear a report from the SSC Selection Committee and take action as appropriate.

From 10:15 a.m. - 10:30 a.m., the Council will hear a report from the SOPPs Committee and take action as appropriate.

From 10:30 a.m. - 10:45 a.m., the Council will hear a report from the Information and Education Committee and take action as appropriate.

From 10:45 a.m. - 12 noon, the Council will receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by September 12, 2007.

Dated: August 9, 2007.
Tracey L. Thompson,
Acting Director, Office of Sustainable Fisheries, National Marine Fisheries Service.

[FR Doc. E7-15886 Filed 8-13-07; 8:45 am]

BILLING CODE 3510-22-S